FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—09/04/2007
20071659 | Volt Information Sciences, Inc | Warburg Pincus Private Equity VIII, L.P | LSSi Corp.
20071918 | D.E. Shaw Composite International Fund | Investment Technology Group, Inc | Investment Technology Group, Inc.
TRANSACTIONS GRANTED EARLY TERMINATION—09/05/2007
20071963 | SKW Stahl-Metallurgie Holding AG | Platinum Equity Capital Partners, L.P | Eysler Holding Corporation.
20072008 | Castlerigg Global Select Fund Limited | Pioneer Natural Resources Company | Pioneer Natural Resources Company.
20072037 | MetLife, Inc | SafeGuard Health Enterprises, Inc | SafeGuard Health Enterprises, Inc.
20072045 | Rosboro, LLC | Sierra Pacific Holding Company | Sierra Pacific Holding Company.
20072047 | Koninklijke KPN N.V | iBasis, Inc | iBasis, Inc.
20072049 | Li & Fung Limited | Haim Dabah | P.A. Group LLC; Regatta (U.S.A.) LLC.
TRANSACTIONS GRANTED EARLY TERMINATION—09/06/2007
20071960 | Allen-Vanguard Corporation | Med-Eng Systems Inc | Med-Eng Subsystems Inc.
20072056 | Meriwest Credit Union | Golden Bay Federal Credit Union | Golden Bay Federal Credit Union.
TRANSACTIONS GRANTED EARLY TERMINATION—09/07/2007
20071269 | NOVA Chemicals Corporation | NEWCO LLC | NEWCO LLC.
20072057 | Hypo Real Estate Holding AG | Depfa Bank plc | Depfa Bank plc.
TRANSACTIONS GRANTED EARLY TERMINATION—09/10/2007
20071277 | James Ratcliffe | NEWCO LLC | NEWCO LLC.
20071981 | Hewlett-Packard Company | Neoware, Inc | Neoware, Inc.
20072044 | The Talisker Partnership | Oak Hill Capital Partners, L.P | American Skiing Company Resort Properties, Inc.; ASC Utah, Inc.
20072058 | Infinity World Development Corp | City Center Holdings LLC | City Center Holdings LLC.
20072066 | HealthSpring, Inc | Benjamin Leon, Jr. and Silvia Leon | Leon Medical Centers Health Plans, Inc.
20072068 | Jefferies Capital Partners IV L.P | NovaStar Financial, Inc | NovaStar Financial, Inc.
20072069 | Massachusetts Mutual Life Insurance Company | NovaStar Financial, Inc | NovaStar Financial, Inc.
20072071 | Harbinger Capital Partners Special Situations Offshore Fund | Bally Total Fitness Holding Corporation | Bally Total Fitness Holding Corporation.
20072073 | Ecolab Inc | Microtek Medical Holdings, Inc | Microtek Medical Holdings, Inc.
20072081 | Anheuser-Busch Companies, Inc | Eagle Brands, Inc | Eagle Brands, Inc.
20072084 | ConocoPhillips | American Electric Power Company, Inc | CSW Sweeny GP II, Inc.; Sweeny Cogeneration Limited Partnership.
20072085 | ConocoPhillips | General Electric Company | CSW Sweeny GP II, Inc.; Sweeny Cogeneration Limited Partnership.
20072086 | John B. Simpson, PhD, M.D | ev3 Inc | ev3 Inc.
20072090 | Buckeye Partners, L.P | Lodi Holdings, L.L.C | Lodi Gas Storage, L.L.C.
20072092 | Tricap Partners II L.P | Partners Limited | Longview Fibre Paper & Packaging, Inc.
20072094 | Monkwood Luxco SARL | MidOcean Partners II, LP | Palace Entertainment Holdings, Inc.
20072108 | Medtronic, Inc | Kyphon, Inc | Kyphon, Inc.
TRANSACTIONS GRANTED EARLY TERMINATION—09/11/2007
20072107 | Knight Holdco LLC | David Stone | Marine Barge Company, LLC; Marine Terminals Bulk Storage, LLC; Marine Terminals, Inc.; Marine Terminals of Alabama, Inc.; Marine Terminals of Arkansas, Inc.; Marine Terminals of North Carolina, Inc.
TRANSACTIONS GRANTED EARLY TERMINATION—09/12/2007
20072013 | Symyx Technologies, Inc | Reed Elsevier PLC | MDL Information Systems, Inc.
20072014 | Symyx Technologies, Inc | Reed Elsevier NV | MDL Information Systems, Inc.
TRANSACTIONS GRANTED EARLY TERMINATION—09/13/2007
20072052 | Royal Bank of Canada | Visa Inc | Visa Inc.
20072067 | ENMCOR Group, Inc | First Reserve Fund X, L.P | FR X Ohmstede Acquisitions Co.
20072082 | NCL Investment Ltd | Star Cruises Limited | NCL Corporation Ltd.
20072083 | AIF VI NCL AIV, L.P | Star Cruises Limited | NCL Corporation Ltd.
20072089 | Darden Restaurants, Inc | RARE Hospitality International, Inc | RARE Hospitality International, Inc.
20072095 | Dewey Ballantine LLP | LeBouf, Lamb, Greene & MacRae LLP | LeBouf, Lamb, Greene & MacRae LLP.
20072096 | LeBouf, Lamb, Greene & MacRae LLP | Dewey Ballantine LLP | Dewey Ballantine LLP.
20072099 | Primus Capital Fund V Limited Partnership | Healthcare Management Systems, Inc. ESOT | Healthcare Management Systems, Inc.
20072102 | Marsh & McLennan Companies, Inc | Frontenac VIII Limited Partnership | TrialGraphix Holdings, Inc.
20072112 | Audax Private Equity Fund II, L.P | Summit Ventures VI-A, L.P | Help/Systems Holdings, Inc.
20072119 | Koninklijke KPN N.V | Getronics N.V | Getronics N.V.
TRANSACTIONS GRANTED EARLY TERMINATION—09/14/2007
20070532 | Kyphon Inc | Disc-O-Tech Medical Technologies Ltd | Discotech Orthopedic Technologies Inc.
20072110 | Compass Group PLC | Ira S. Levy | Propoco, Inc.
20072113 | MGI PHARMA, INC | AkaRx, Inc | AkaRx, Inc.
20072115 | Richard L. Duchossois | Churchill Downs Incorporated | Churchill Downs Incorporated.
20072116 | Maxim Integrated Products Inc | Vitesse Semiconductor Corporation | Vitesse Semiconductor Corporation.
20072120 | Firstsource Solutions Limited | RoundTable Healthcare Partners, L.P | MedAssist Holding, Inc.
20072127 | MPC Corporation | Gateway, Inc | Gateway Companies, Inc.
20072135 | Cognos Incorporated | Applix, Inc | Applix, Inc.
TRANSACTIONS GRANTED EARLY TERMINATION—09/17/2007
20072050 | TPF II, L.P | ArcLight Energy Partners Fund II, L.P | Lincoln Generating Facility, LLC; Lincoln Peaking Power, LLC.; Power Energy Partners LLC.
20072051 | TPF II, L.P | DTE Energy Company | Lincoln Generating Facility, LLC; Lincoln Peaking Power, LLC; Power Energy Partners, LLC.
20072070 | American Electric Power Company, Inc | Dominion Resources, Inc | Dresden Energy, LLC.
20072142 | Siemens Aktiengesellschaft | Dade Behring Holdings, Inc | Dade Behring Holdings, Inc.
TRANSACTIONS GRANTED EARLY TERMINATION—09/18/2007
20072061 | 3M Company | Lewis S. Cohen | New Horizon Technologies Inc.; Venture Tape Corp.; Venture Tape Europe Corp.
20072087 | Berkshire Hathaway Inc | Burlington Northern Santa Fe Corporation | Burlington Northern Santa Fe Corporation.
TRANSACTIONS GRANTED EARLY TERMINATION—09/19/2007
20072039 | Transocean Inc | GlobalSanteFe Corporation | GlobalSanteFe Corporation.
20072075 | Legg Mason Investment Trust, Inc | Exide Technologies | Exide Technologies.
TRANSACTIONS GRANTED EARLY TERMINATION—09/20/2007
20071973 | HAPC, Inc | I-Flow Corporation | InfuSystem, Inc.
20072103 | American Dental Partners, Inc | Sentinel Capital Partners III, L.P | Metropolitan Dental Holdings, Inc.
20072143 | Positive Investments Pty Ltd | Village Roadshow Entertainment Group (BVI) Limited | Village Roadshow Entertainment Group (BVI) Limited.
TRANSACTIONS GRANTED EARLY TERMINATION—09/21/2007
20072144 | Clarity Partners, LP | Village Roadshow Entertainment Group (BVI) Limited | Village Roadshow Entertainment Group (BVI) Limited.

FOR FURTHER INFORMATION CONTACT: Sandra M. Peay, Contact Representative or Renee Hallman, Contact Representative, Federal Trade Commission, Premerger Notification Office, Bureau of Competition, Room H-303, Washington, DC 20590, (202) 326-3100.

By Direction of the Commission.
Donald S. Clark
Secretary.

[FR Doc. 07-4889 Filed 10-2-07; 8:45 am]

BILLING CODE 6750-01-M